DEPARTMENT OF AGRICULTURE

Forest Service

Frank Church—River Of No Return Wilderness Noxious Weed Treatments Environmental Impact Statement

AGENCY: Forest Service, USDA.

ACTION: Notice of Intent to Prepare a Supplemental Environmental Impact Statement to the Frank Church—River Of No Return Wilderness (FC-RONR) Wilderness Noxious Weed Treatments Environmental Impact Statement (EIS).

SUMMARY: The Salmon-Challis national Forest, will prepare a Supplemental Environmental Impact Statement (SEIS) to evaluate changed conditions since issuing the August 1999 FC-RONR Wilderness Noxious Weed Treatments EIS and Record of Decision (ROD). The inventoried number of sites and acreages to be treated within the FC-RONR Wilderness will be updated and analyzed. The EIS will also address a long-term integrated weed prevention strategy and use of an additional herbicide (Plateau).

DATES: The Forest Service expects to submit a draft Supplemental EIS by October 2003. The comment period on the Draft SEIS will be 45 days from the date the Notice of Availability is published in the Federal Register.

ADDRESSES: Submit written comments concerning this notice to Ken Wotring, Project Coordinator, Salmon-Challis National Forest, 50 Hwy 93 South, Salmon, Idaho, 83467.

FOR FURTHER INFORMATION CONTACT: Ken Wotring at (208) 756-5131 or Howard Lyman at (208) 839-2211.

SUPPLEMENTARY INFORMATION:

Background

The Bitterroot, Nez Perce, Payette and Salmon Challis National Forests administer the Frank Church—River of No Return Wilderness. These National Forests chose to address several issues relative to consistent management of the FC-RONR Wilderness. Most of the issues addressed were recreational in nature. The need for consistent management of noxious weeds within the Wilderness was also addressed. A Draft EIS was released in January 1998. Public comment was extremely polarized regarding the recreational issues. Many individuals and interests were concerned that the Alternatives displayed in the DEIS would institute excessively harsh measures to address management of recreational use. On the other hand, public support for an aggressive noxious weeds program was evident in the comments received on this issue.

The Forest Supervisors decided upon a two-prong approach in response to those public comments. (1) They would issue a Supplemental Draft to evaluate additional management actions to respond to public concerns prior to development of a FEIS for revision of the FC-RONRW Management Plan. (2) They would issue a Final Weeds EIS and ROD responsive to public support for a consistent noxious weeds program.

August 1999 FC-RONR Wilderness Noxious Weed Treatment Final Environmental Impact Statement (Weeds FEIS) and Record of Decision

The Weeds FEIS proposed action was to treat 300 sites encompassing 1,775 acres beginning in 1999 and up until the FEIS for revising the FC-RONRW Management Plan was completed. The Record of Decision (ROD) for the Weeds FEIS deferred addressing non-treatment practices, including coordination, education, prevention and inventory in the Management Plan Revision FEIS.

The Weeds ROD selected Alternative 2, which consisted of an Aggressive Integrated Weed Treatment Wilderness-wide. Specific actions included:

• Controlling weed populations through a combination of manual, chemical and biological methods;

• Implementing restoration following control methods; and

• Monitoring.

This decision was appealed, and while the Regional Forester upheld the Forests, direction to the Forests reaffirmed the earlier commitment to complete a Noxious Weeds Prevention Strategy as part of the non-treatment practices to be addressed in the revision of the Management Plan FEIS.

The Forests implemented an integrated weed management strategy and committed to readdress non-treatment practices, specifically the Prevention Strategy in the Management Plan FEIS.

Changed Conditions and a New Approach

The 1999 Weed FEIS analysis was based on nearly 300 inventoried sites encompassing 1,775 acres. The Weed FEIS evaluated, and the ROD adopted, an Adaptive Strategy for future treatment of new weed invasions and expansion of existing infestations. Extensive wildfires burned over ½ million acres in and adjacent to the FC-RONR Wilderness during the summer of 2000 and accelerated expansion of noxious weeds into those fire distrubed areas. Recent inventories document sites encompassing 5,204 acres. Therefore, a Supplemental analysis to the Noxious Weeds EIS will be prepared to address the changed conditions. The SEIS will also address an additional herbicide for use in Noxious Weed control (Plateau). Finally, the SEIS will address a Noxious Weed Prevention Strategy for the FC-RONR Wilderness.

Timelines

The Draft SEIS is expected to be available for public review in October 2003. The comment period on the Draft SEIS will be 45 days from the Notice of Availability in the Federal Register. It is very important that those interested in this analysis participate at that time. To be most helpful, comments on the DSEIS should be as specific as possible. The Final SEIS is scheduled for completion in January 2004. At that time, we will release the Final SEIS along with the Record of Decision (ROD). A 45-day appeal period will follow as required pursuant to 36 CFR 215. Implementation of the decision can occur 5 days following release of the ROD if not appealed or after a favorable appeal decision.

Submitting Comments

To assist the Forest Service in identifying and considering issues and concerns on the proposed action, comments should be as specific as possible. Reviewers may wish to refer to the Council on Environmental Quality Regulations for implementing the procedural provisions of the National Environmental Policy Act at 40 CFR 1503.3 in addressing these points.

Authority

The Salmon-Challis National Forest Supervisor has determined that preparation of a Supplemental EIS (Draft and Final) is required in order to address changed conditions and prior agency commitments, under CEQ regulations implementing the National Environmental Policy Act (40 CFR 1501-1508). The Supplemental EIS will address a proposal by the Salmon-Challis, Bitterroot, Payette and Nez Perce National Forests to address weeds management as described above. That portion of the Boise National Forest that falls within the FC-RONRW is proposed and will be administered by the Salmon-Challis National Forest.

Responsible Official

I am the responsible official for release of the Notice of Intent to prepare this Draft Supplemental Environmental Impact Statement. My address is Salmon-Challis National Forest, 50 Hwy 93 South, Salmon, Idaho 83467. In addition to myself, Deciding Officials will include: Mark Madrid, Forest Supervisor Payette National Forest; Bruce Bernhardt, Forest Supervisor Nez Perce National Forest and Dave Bull, Forest Supervisor Bitterroot National Forest.

Dated: August 29, 2003.
Lesley W. Thompson,
Acting Forest Supervisor, Salmon-Challis National Forest.

[FR Doc. 03-22677 Filed 9-5-03; 8:45 am]

BILLING CODE 3410-11-P